DEPARTMENT OF ENERGY

Federal Energy Regulatory Commission

Combined Notice of Filings

Take notice that the Commission has received the following Natural Gas Pipeline Rate and Refund Report filings:

Filings Instituting Proceedings

Docket Numbers: RP17-573-000.

Applicants: Transcontinental Gas Pipe Line Company.

Description: Transcontinental Gas Pipe Line Company, LLC submits tariff filing per 154.403: Rate Schedule S-2 Tracking Filing, eff. April 1, 2017 to be effective 4/1/2017.

Filed Date: 03/30/2017.

Accession Number: 20170330-5002.

Comment Date: 5:00 p.m. Eastern Time on Tuesday, April 11, 2017.

Docket Numbers: RP17-574-000.

Applicants: Equitrans, L.P.

Description: Equitrans, L.P. submits tariff filing per 154.203: Notice Regarding Non-Jurisdictional Gathering Facilities (F-538 W-4832).

Filed Date: 03/30/2017.

Accession Number: 20170330-5004.

Comment Date: 5:00 p.m. Eastern Time on Tuesday, April 11, 2017.

Docket Numbers: RP17-575-000.

Applicants: Algonquin Gas Transmission, LLC.

Description: Algonquin Gas Transmission, LLC submits tariff filing per 154.204: Negotiated Rate—Boston Gas to BBPC—793493 & 793498 to be effective 4/1/2017.

Filed Date: 03/30/2017.

Accession Number: 20170330-5087.

Comment Date: 5:00 p.m. Eastern Time on Tuesday, April 11, 2017.

Docket Numbers: RP17-576-000.

Applicants: Pine Needle LNG Company, LLC.

Description: Pine Needle LNG Company, LLC submits tariff filing per 154.403(d)(2): 2017 Annual Fuel and Electric Power Tracker Filing to be effective 5/1/2017.

Filed Date: 03/30/2017.

Accession Number: 20170330-5092.

Comment Date: 5:00 p.m. Eastern Time on Tuesday, April 11, 2017.

Docket Numbers: RP17-577-000.

Applicants: Algonquin Gas Transmission, LLC.

Description: Algonquin Gas Transmission, LLC submits tariff filing per 154.204: Negotiated Rate—Col Gas to BBPC—793499 & 793524 & 793583 to be effective 4/1/2017.

Filed Date: 03/30/2017.

Accession Number: 20170330-5097.

Comment Date: 5:00 p.m. Eastern Time on Tuesday, April 11, 2017.

Docket Numbers: RP17-578-000.

Applicants: Algonquin Gas Transmission, LLC.

Description: Algonquin Gas Transmission, LLC submits tariff filing per 154.204: Negotiated Rates—Spark Energy—793558 & 793557 & 793584 to be effective 4/1/2017.

Filed Date: 03/30/2017.

Accession Number: 20170330-5102.

Comment Date: 5:00 p.m. Eastern Time on Tuesday, April 11, 2017.

Docket Numbers: RP17-579-000.

Applicants: Equitrans, L.P.

Description: Equitrans, L.P. submits tariff filing per 154.203: Notice Regarding Non-Jurisdictional Gathering Facilities (W-7527 F-823).

Filed Date: 03/30/2017.

Accession Number: 20170330-5115.

Comment Date: 5:00 p.m. Eastern Time on Tuesday, April 11, 2017.

Docket Numbers: RP17-580-000.

Applicants: Colorado Interstate Gas Company, L.L.C.

Description: Colorado Interstate Gas Company, L.L.C. submits tariff filing per 154.601: Non-Conforming Negotiated Rate Update Filing (DCP) to be effective 5/1/2017.

Filed Date: 03/30/2017.

Accession Number: 20170330-5139.

Comment Date: 5:00 p.m. Eastern Time on Tuesday, April 11, 2017.

Docket Numbers: RP17-581-000.

Applicants: Natural Gas Pipeline Company of America.

Description: Natural Gas Pipeline Company of America LLC submits tariff filing per 154.204: Mercuria Energy Negotiated Rate to be effective 4/1/2017.

Filed Date: 03/30/2017.

Accession Number: 20170330-5279.

Comment Date: 5:00 p.m. Eastern Time on Tuesday, April 11, 2017.

Docket Numbers: RP17-582-000.

Applicants: Equitrans, L.P.

Description: Equitrans, L.P. submits tariff filing per 154.204: Negotiated Rate Service Agreement—Mercuria Energy America, Inc. LPS to be effective 5/1/2017.

Filed Date: 03/30/2017.

Accession Number: 20170330-5301.

Comment Date: 5:00 p.m. Eastern Time on Tuesday, April 11, 2017.

Docket Numbers: RP17-583-000.

Applicants: Enable Gas Transmission, LLC.

Description: Enable Gas Transmission, LLC submits tariff filing per 154.204: Negotiated Rate Filing- Non-Conforming April 2017 Cross Timbers 1007632 Removal to be effective 4/1/2017.

Filed Date: 03/30/2017.

Accession Number: 20170330-5325.

Comment Date: 5:00 p.m. Eastern Time on Tuesday, April 11, 2017.

Docket Numbers: RP17-584-000.

Applicants: El Paso Natural Gas Company, L.L.C.

Description: El Paso Natural Gas Company, L.L.C. submits tariff filing per 154.204: Non-Conforming Agreements Filing (APS) to be effective 4/1/2017.

Filed Date: 03/31/2017.

Accession Number: 20170331-5002.

Comment Date: 5:00 p.m. Eastern Time on Wednesday, April 12, 2017.

Docket Numbers: RP17-585-000.

Applicants: ANR Pipeline Company.

Description: ANR Pipeline Company submits tariff filing per 154.601: 4 Neg Rate Agmts April 2017 to be effective 4/1/2017.

Filed Date: 03/31/2017.

Accession Number: 20170331-5004.

Comment Date: 5:00 p.m. Eastern Time on Wednesday, April 12, 2017.

Docket Numbers: RP17-586-000.

Applicants: Northern Border Pipeline Company.

Description: Northern Border Pipeline Company submits tariff filing per 154.601: Sequent Energy Neg Rate Agmt to be effective 4/1/2017.

Filed Date: 03/31/2017.

Accession Number: 20170331-5005.

Comment Date: 5:00 p.m. Eastern Time on Wednesday, April 12, 2017.

Docket Numbers: RP17-587-000.

Applicants: East Tennessee Natural Gas, LLC.

Description: East Tennessee Natural Gas, LLC submits 2015-2016 Cashout Report.

Filed Date: 03/30/2017.

Accession Number: 20170330-5361.

Comment Date: 5:00 p.m. Eastern Time on Tuesday, April 11, 2017.

Docket Numbers: RP17-588-000.

Applicants: Columbia Gas Transmission, LLC.

Description: Columbia Gas Transmission, LLC submits tariff filing per 154.403: OTRA—Summer 2017 to be effective 5/1/2017.

Filed Date: 03/31/2017.

Accession Number: 20170331-5059.

Comment Date: 5:00 p.m. Eastern Time on Wednesday, April 12, 2017.

Docket Numbers: RP17-589-000.

Applicants: Hardy Storage Company, LLC.

Description: Hardy Storage Company, LLC submits tariff filing per 154.204: RAM 2017 to be effective 5/1/2017.

Filed Date: 03/31/2017.

Accession Number: 20170331-5060.

Comment Date: 5:00 p.m. Eastern Time on Wednesday, April 12, 2017.

Docket Numbers: RP17-590-000.

Applicants: Columbia Gulf Transmission, LLC.

Description: Columbia Gulf Transmission, LLC submits tariff filing per 154.204: Negotiated Rate Service Amendment—Kaiser to be effective 4/1/2017.

Filed Date: 03/31/2017.

Accession Number: 20170331-5061.

Comment Date: 5:00 p.m. Eastern Time on Wednesday, April 12, 2017.

Docket Numbers: RP17-591-000.

Applicants: WBI Energy Transmission, Inc.

Description: WBI Energy Transmission, Inc. submits tariff filing per 154.204: 2017 Non-Conforming Negotiated SA FT-1390—Oneok to be effective 5/1/2017.

Filed Date: 03/31/2017.

Accession Number: 20170331-5067.

Comment Date: 5:00 p.m. Eastern Time on Wednesday, April 12, 2017.

Docket Numbers: RP17-592-000.

Applicants: Iroquois Gas Transmission System, L.P.

Description: Iroquois Gas Transmission System, L.P. submits tariff filing per 154.204: 03/31/17 Negotiated Rates—Mercuria Energy America, Inc. (RTS) 7540-11 to be effective 4/1/2017.

Filed Date: 03/31/2017.

Accession Number: 20170331-5092.

Comment Date: 5:00 p.m. Eastern Time on Wednesday, April 12, 2017.

Docket Numbers: RP17-593-000.

Applicants: Iroquois Gas Transmission System, L.P.

Description: Iroquois Gas Transmission System, L.P. submits tariff filing per 154.204: 03/31/17 Negotiated Rates—Consolidated Edison Energy Inc. (RTS) 2275-11 to be effective 4/1/2017.

Filed Date: 03/31/2017.

Accession Number: 20170331-5095.

Comment Date: 5:00 p.m. Eastern Time on Wednesday, April 12, 2017.

Docket Numbers: RP17-594-000.

Applicants: Iroquois Gas Transmission System, L.P.

Description: Iroquois Gas Transmission System, L.P. submits tariff filing per 154.204: 03/31/17 Negotiated Rates—Twin Eagle Resource Management, LLC (RTS) 7300-04 to be effective 4/1/2017.

Filed Date: 03/31/2017.

Accession Number: 20170331-5093.

Comment Date: 5:00 p.m. Eastern Time on Wednesday, April 12, 2017.

Docket Numbers: RP17-595-000.

Applicants: ANR Storage Company.

Description: ANR Storage Company submits tariff filing per 154.403(d)(2): Seller's Use—Fuel Filing 2017 to be effective 5/1/2017.

Filed Date: 03/31/2017.

Accession Number: 20170331-5106.

Comment Date: 5:00 p.m. Eastern Time on Wednesday, April 12, 2017.

Docket Numbers: RP17-596-000.

Applicants: Questar Pipeline, LLC.

Description: Questar Pipeline, LLC submits tariff filing per 154.204: Statement of Negotiated Rates V13, XTO Energy to be effective 4/1/2017.

Filed Date: 03/31/2017.

Accession Number: 20170331-5107.

Comment Date: 5:00 p.m. Eastern Time on Wednesday, April 12, 2017.

Docket Numbers: RP17-597-000.

Applicants: Algonquin Gas Transmission, LLC.

Description: Algonquin Gas Transmission, LLC submits tariff filing per 154.204: Negotiated Rate—Con Ed to Emera—793617 to be effective 4/1/2017.

Filed Date: 03/31/2017.

Accession Number: 20170331-5114.

Comment Date: 5:00 p.m. Eastern Time on Wednesday, April 12, 2017.

Docket Numbers: RP17-598-000.

Applicants: Great Lakes Gas Transmission Limited Par.

Description: Great Lakes Gas Transmission Limited Partnership submits tariff filing per 154.312: Great Lakes General Section 4 Rate Case to be effective 5/1/2017.

Filed Date: 03/31/2017.

Accession Number: 20170331-5130.

Comment Date: 5:00 p.m. Eastern Time on Wednesday, April 12, 2017.

Docket Numbers: RP17-599-000.

Applicants: Texas Eastern Transmission, LP.

Description: Texas Eastern Transmission, LP submits tariff filing per 154.204: Negotiated Rates—NJR Energy Services—contract 910531 to be effective 4/1/2017.

Filed Date: 03/31/2017.

Accession Number: 20170331-5139.

Comment Date: 5:00 p.m. Eastern Time on Wednesday, April 12, 2017.

Docket Numbers: RP17-600-000.

Applicants: Gulf South Pipeline Company, LP.

Description: Gulf South Pipeline Company, LP submits tariff filing per 154.204: Cap Rel Neg Rate Agmt (Atmos 45527 to Centerpoint 47821) to be effective 4/1/2017.

Filed Date: 03/31/2017.

Accession Number: 20170331-5140.

Comment Date: 5:00 p.m. Eastern Time on Wednesday, April 12, 2017.

Docket Numbers: RP17-601-000.

Applicants: Gulf South Pipeline Company, LP.

Description: Gulf South Pipeline Company, LP submits tariff filing per 154.204: Cap Rel Neg Rate Agmts (PH 41455 to Texla 47848, BP 47892, Sequent 47900) to be effective 4/1/2017.

Filed Date: 03/31/2017.

Accession Number: 20170331-5141.

Comment Date: 5:00 p.m. Eastern Time on Wednesday, April 12, 2017.

Docket Numbers: RP17-602-000.

Applicants: Gulf South Pipeline Company, LP.

Description: Gulf South Pipeline Company, LP submits tariff filing per 154.204: Cap Rel Neg Rate Agmts (Atlanta 8438 to various eff 4-1-17) to be effective 4/1/2017.

Filed Date: 03/31/2017.

Accession Number: 20170331-5144.

Comment Date: 5:00 p.m. Eastern Time on Wednesday, April 12, 2017.

Docket Numbers: RP17-603-000.

Applicants: Gulf South Pipeline Company, LP.

Description: Gulf South Pipeline Company, LP submits tariff filing per 154.204: Amendments and Cap Rel Related to Neg Rate Agmts (FPL 40097-17, 18; 41619-13) to be effective 4/1/2017.

Filed Date: 03/31/2017.

Accession Number: 20170331-5146.

Comment Date: 5:00 p.m. Eastern Time on Wednesday, April 12, 2017.

Docket Numbers: RP17-604-000.

Applicants: Gulf South Pipeline Company, LP.

Description: Gulf South Pipeline Company, LP submits tariff filing per 154.204: Amendments to Neg Rate Agmts (ExGen 43197-4, 43198-5) to be effective 4/1/2017.

Filed Date: 03/31/2017.

Accession Number: 20170331-5148.

Comment Date: 5:00 p.m. Eastern Time on Wednesday, April 12, 2017.

Docket Numbers: RP17-605-000.

Applicants: Northern Border Pipeline Company.

Description: Northern Border Pipeline Company submits tariff filing per 154.403(d)(2): Compressor Usage Surcharge 2017 to be effective 5/1/2017.

Filed Date: 03/31/2017.

Accession Number: 20170331-5149.

Comment Date: 5:00 p.m. Eastern Time on Wednesday, April 12, 2017.

Docket Numbers: RP17-606-000.

Applicants: Bison Pipeline LLC.

Description: Company Use Gas Annual Report of Bison Pipleine LLC.

Filed Date: 03/31/2017.

Accession Number: 20170331-5202.

Comment Date: 5:00 p.m. Eastern Time on Wednesday, April 12, 2017.

Docket Numbers: RP17-607-000.

Applicants: Natural Gas Pipeline Company of America.

Description: Natural Gas Pipeline Company of America LLC submits tariff filing per 154.204: Negotiated Rate—North Shore to be effective 4/1/2017.

Filed Date: 03/31/2017.

Accession Number: 20170331-5205.

Comment Date: 5:00 p.m. Eastern Time on Wednesday, April 12, 2017.

Docket Numbers: RP17-608-000.

Applicants: Kern River Gas Transmission Company.

Description: Annual Gas Compressor Fuel Report of Kern River Gas Transmission Company.

Filed Date: 03/31/2017.

Accession Number: 20170331-5206.

Comment Date: 5:00 p.m. Eastern Time on Wednesday, April 12, 2017.

Docket Numbers: RP17-609-000.

Applicants: Natural Gas Pipeline Company of America.

Description: Natural Gas Pipeline Company of America LLC submits tariff filing per 154.204: Negotiated Rate—Peoples to be effective 4/1/2017.

Filed Date: 03/31/2017.

Accession Number: 20170331-5210.

Comment Date: 5:00 p.m. Eastern Time on Wednesday, April 12, 2017.

Docket Numbers: RP17-610-000.

Applicants: El Paso Natural Gas Company, L.L.C.

Description: El Paso Natural Gas Company, L.L.C. submits tariff filing per 154.601: Negotiated Rate Agreement Update (APS April 2017) to be effective 4/1/2017.

Filed Date: 03/31/2017.

Accession Number: 20170331-5213.

Comment Date: 5:00 p.m. Eastern Time on Wednesday, April 12, 2017.

Docket Numbers: RP17-611-000.

Applicants: Horizon Pipeline Company, L.L.C.

Description: Horizon Pipeline Company, L.L.C. submits tariff filing per 154.204: Natural Gas Pipeline Negotiated Rate to be effective 4/1/2017.

Filed Date: 03/31/2017.

Accession Number: 20170331-5260.

Comment Date: 5:00 p.m. Eastern Time on Wednesday, April 12, 2017.

Docket Numbers: RP17-612-000.

Applicants: Rockies Express Pipeline LLC.

Description: Rockies Express Pipeline LLC submits tariff filing per 154.204: Neg Rate 2017-03-31 Ascent to be effective 4/1/2017.

Filed Date: 03/31/2017.

Accession Number: 20170331-5269.

Comment Date: 5:00 p.m. Eastern Time on Wednesday, April 12, 2017.

Docket Numbers: RP17-613-000.

Applicants: Texas Gas Transmission, LLC.

Description: Texas Gas Transmission, LLC submits tariff filing per 154.204: Negotiated Rate Agreement (Tenaska 36069) to be effective 4/1/2017.

Filed Date: 03/31/2017.

Accession Number: 20170331-5278.

Comment Date: 5:00 p.m. Eastern Time on Wednesday, April 12, 2017.

Docket Numbers: RP17-614-000.

Applicants: Texas Gas Transmission, LLC.

Description: Texas Gas Transmission, LLC submits tariff filing per 154.204: Amendment to Neg Rate Agmt (TVA 35341) to be effective 4/1/2017.

Filed Date: 03/31/2017.

Accession Number: 20170331-5282.

Comment Date: 5:00 p.m. Eastern Time on Wednesday, April 12, 2017.

Docket Numbers: RP17-615-000.

Applicants: Natural Gas Pipeline Company of America.

Description: Penalty Revenue Crediting Report of Natural Gas Pipeline Company of America LLC.

Filed Date: 03/31/2017.

Accession Number: 20170331-5287.

Comment Date: 5:00 p.m. Eastern Time on Wednesday, April 12, 2017.

Docket Numbers: RP17-616-000.

Applicants: Texas Gas Transmission, LLC.

Description: Texas Gas Transmission, LLC submits tariff filing per 154.204: Assignment of Cross Timbers to XTO to be effective 4/1/2017.

Filed Date: 03/31/2017.

Accession Number: 20170331-5294.

Comment Date: 5:00 p.m. Eastern Time on Wednesday, April 12, 2017.

Docket Numbers: RP17-617-000.

Applicants: Texas Gas Transmission, LLC.

Description: Texas Gas Transmission, LLC submits tariff filing per 154.204: Permanent Cap Rel (Atmos 21789 to CenterPoint 36119) to be effective 4/1/2017.

Filed Date: 03/31/2017.

Accession Number: 20170331-5298.

Comment Date: 5:00 p.m. Eastern Time on Wednesday, April 12, 2017.

Docket Numbers: RP17-618-000.

Applicants: Rockies Express Pipeline LLC.

Description: Rockies Express Pipeline LLC submits tariff filing per 154.204: Neg Rate 2017-03-31 BP, CP, Encana to be effective 4/1/2017.

Filed Date: 03/31/2017.

Accession Number: 20170331-5305.

Comment Date: 5:00 p.m. Eastern Time on Wednesday, April 12, 2017.

Docket Numbers: RP17-619-000.

Applicants: Gulf Crossing Pipeline Company LLC.

Description: Gulf Crossing Pipeline Company LLC submits tariff filing per 154.204: Amendment to Neg Rate Agmt (BP 37-24) to be effective 4/1/2017.

Filed Date: 03/31/2017.

Accession Number: 20170331-5314.

Comment Date: 5:00 p.m. Eastern Time on Wednesday, April 12, 2017.

Docket Numbers: RP17-620-000.

Applicants: Natural Gas Pipeline Company of America.

Description: Natural Gas Pipeline Company of America LLC submits tariff filing per 154.204: Negotiated Rate Tenaska to be effective 4/1/2017.

Filed Date: 03/31/2017.

Accession Number: 20170331-5326.

Comment Date: 5:00 p.m. Eastern Time on Wednesday, April 12, 2017.

Docket Numbers: RP17-621-000.

Applicants: Transcontinental Gas Pipe Line Company.

Description: Transcontinental Gas Pipe Line Company, LLC submits tariff filing per 154.204: Negotiated Rates—Dalton Expansion—Oglethorpe Capac Rls to be effective 4/1/2017.

Filed Date: 03/31/2017.

Accession Number: 20170331-5327.

Comment Date: 5:00 p.m. Eastern Time on Wednesday, April 12, 2017.

Docket Numbers: RP17-622-000.

Applicants: Natural Gas Pipeline Company of America.

Description: Natural Gas Pipeline Company of America LLC submits tariff filing per 154.204: Occidental Energy Marketing Negotiated Rate to be effective 4/1/2017.

Filed Date: 03/31/2017.

Accession Number: 20170331-5350.

Comment Date: 5:00 p.m. Eastern Time on Wednesday, April 12, 2017.

Docket Numbers: RP17-623-000.

Applicants: Texas Eastern Transmission, LP.

Description: Texas Eastern Transmission, LP submits tariff filing per 154.204: Updates to Cashout Mechanisms to be effective 5/1/2017.

Filed Date: 03/31/2017.

Accession Number: 20170331-5396.

Comment Date: 5:00 p.m. Eastern Time on Wednesday, April 12, 2017.

Docket Numbers: RP17-624-000.

Applicants: Northern Natural Gas Company.

Description: Northern Natural Gas Company submits tariff filing per 154.204: 20170331 Negotiated Rate to be effective 4/1/2017.

Filed Date: 03/31/2017.

Accession Number: 20170331-5431.

Comment Date: 5:00 p.m. Eastern Time on Wednesday, April 12, 2017.

Docket Numbers: RP17-625-000.

Applicants: Dominion Transmission, Inc.

Description: Dominion Transmission, Inc. submits tariff filing per 154.204: DTI—March 31, 2017 Negotiated Rate Agreements to be effective 4/1/2017.

Filed Date: 03/31/2017.

Accession Number: 20170331-5461.

Comment Date: 5:00 p.m. Eastern Time on Wednesday, April 12, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2017.
Kimberly D. Bose,
Secretary.

[FR Doc. 2017-07039 Filed 4-7-17; 8:45 am]

BILLING CODE 6717-01-P